DEPARTMENT OF THE INTERIOR

United States Geological Survey

[GX14EN05ESB0500]

Advisory Committee on Climate Change and Natural Resource Science

AGENCY: U.S. Geological Survey, Interior.

ACTION: Meeting Notice

SUMMARY: In accordance with the requirements of the Federal Advisory Committee Act, 5 U.S.C. App. 2, we announce that the Advisory Committee on Climate Change and Natural Resource Science will hold a meeting.

DATES: Meeting: The meeting will be held as follows: Wednesday, June 11, 2014, from 8:30 a.m. to 5:00 p.m.; and Thursday, June 12, 2014 from 9:00 a.m. to 3:00 p.m. (All times Eastern).

ADDRESSES: Sheraton Premiere at Tysons Corner, 8661 Leesburg Pike, Tysons Corner, Virginia, 22182, McLean Room.

FOR FURTHER INFORMATION CONTACT: Mr. Robin O'Malley, Designated Federal Officer, Policy and Partnership Coordinator, National Climate Change and Wildlife Science Center, U.S. Geological Survey, 12201 Sunrise Valley Drive, Mail Stop 400, Reston, VA 20192, romalley@usgs.gov, (703) 648-4086.

SUPPLEMENTARY INFORMATION: Chartered in May 2013, the Advisory Committee on Climate Change and Natural Resource Science (ACCCNRS) advises the Secretary of the Interior on the establishment and operations of the U.S. Geological Survey (USGS) National Climate Change and Wildlife Science Center (NCCWSC) and the Department of the Interior (DOI) Climate Science Centers (CSCs). ACCCNRS members represent federal agencies; state and local governments; American Indian tribes and other Native American entities; nongovernmental organizations; academic institutions; and the private sector. Duties of the committee include: (A) Advising on the contents of a national strategy identifying key science priorities to advance the management of natural resources in the face of climate change; (B) advising on the nature, extent, and quality of relations with and engagement of key partners at the regional/CSC level; (C) advising on the nature and effectiveness of mechanisms to ensure the identification of key priorities from management partners and to effectively deliver scientific results in useful forms; (D) advising on mechanisms that may be employed by the NCCWSC to ensure high standards of scientific quality and integrity in its products, and to review and evaluate the performance of individual CSCs, in advance of opportunities to re-establish expiring agreements; and (E) coordinating as appropriate with any Federal Advisory Committee established for the DOI Landscape Conservation Cooperatives. More information about the ACCCNRS is available at https://nccwsc.usgs.gov/acccnrs.

Meeting Agenda: The objectives of this meeting are to: (1) Review and provide feedback on USGS's draft strategy for NCCWSC and the CSCs; (2) review and provide input on draft ACCCNRS report to the Secretary of the Interior; (3) agree on steps for finalizing ACCCNRS recommendations and report to the Secretary of the Interior; (4) review and update ACCCNRS work plan for 2014-15. The final agenda will be posted on https://nccwsc.usgs.gov/acccnrs prior to the meeting.

Public Input: All Committee meetings are open to the public. Interested members of the public may present, either orally or through written comments, information for the Committee to consider during the public meeting. The public will be able to make comment on Wednesday, June 11, 2014, from approximately 11:45 a.m. to 12:00 p.m. and 4:45 p.m. to 5:00 p.m., and on Thursday, June 12, 2014, from approximately 11:45 a.m. to 12:00 p.m.

Individuals or groups requesting to make comment at the public Committee meeting will be limited to 2 minutes per speaker. The Committee will endeavor to provide adequate opportunity for all speakers, within available time limits. Speakers who wish to expand upon their oral statements, or those who had wished to speak, but could not be accommodated during the public comment period, are encouraged to submit their comments in written form to the Committee after the meeting.

Written comments should be submitted, prior to, during, or after the meeting, to Mr. Robin O'Malley, Designated Federal Officer, by U.S. Mail to: Mr. Robin O'Malley, Designated Federal Officer, U.S. Geological Survey, 12201 Sunrise Valley Drive, Mail Stop 400, Reston, VA 20192, or via email, at romalley@usgs.gov.

The meeting location is open to the public. Space is limited, so all interested in attending should pre-register. Please submit your name, time of arrival, email address and phone number to Mr. Robin O'Malley via email at romalley@usgs.gov, or by phone at (703) 648-4086, by close of business on June 4, 2014. Persons with disabilities requiring special services, such as an interpreter for the hearing impaired, should contact Mr. O'Malley at (703) 648-4086 at least seven calendar days prior to the meeting. We will do our best to accommodate those who are unable to meet this deadline.

Robin O'Malley,
Designated Federal Officer.

[FR Doc. 2014-12117 Filed 5-23-14; 8:45 am]

BILLING CODE 4311-AM-P